DEPARTMENT OF STATE

[Public Notice 8749]

Issuance of an Amendment of the Presidential Permit for the City of Laredo, Texas for the Laredo World Trade Bridge

SUMMARY: The Department of State issued an amendment to the Presidential Permit to the City of Laredo on May 22, 2014, allowing the Laredo World Trade Bridge to carry certain hazardous materials. In making this determination, the Department provided public notice of the proposed amendment (79 FR 40821, July 8, 2013), offered the opportunity for comment, and consulted with other federal agencies, as required by Executive Order 11423, as amended.

FOR FURTHER INFORMATION CONTACT: Steven Kameny, Mexico Border Affairs Officer, via email at WHA-BorderAffairs@state.gov, by phone at 202 647-9894 or by mail at Office of Mexican Affairs—Room 3924, Department of State, 2201 C St. NW., Washington, DC 20520. Information about Presidential permits is available on the Internet at http://www.state.gov/p/wha/rt/permit/.

SUPPLEMENTARY INFORMATION: The following is the text of the issued permit:

By virtue of the authority vested in me as Under Secretary for Political Affairs, including those authorities under Executive Order 11423, 33 FR 11741, as amended by Executive Order 12847 of May 17, 1993, 58 FR 29511, Executive Order 13284 of January 23, 2003, 68 FR 4075, and Executive Order 13337 of April 30, 2004, 69 FR 25299; and Department of State Delegation of Authority 118-2 of January 26, 2006; I hereby amend as set forth herein the permission granted in the Presidential Permit signed on October 7, 1994, to the City of Laredo, Texas (hereinafter referred to as “permittee ”) to construct, operate, and maintain an international vehicular and pedestrian bridge between Laredo, Webb County, Texas and Nuevo Laredo, Tamaulipas, Mexico.

* * * * *

1. Article 13(2) of the Presidential Permit signed on October 7, 1994, is amended and replaced in its entirety with the following provision:

(2) The permittee shall route all hazardous materials from the downtown bridges to the United States facilities at Colombia Solidarity Bridge, or to the United States facilities at Laredo World Trade Bridge. However, U.S. Department of Transportation (USDOT) Table I Materials—Explosives, Radioactive, Poison Gas, and Other Toxic Compounds (as defined in USDOT 49 Code of Federal Regulations [CFR] 172.504[e]) shall not be routed to Laredo World Trade Bridge.

2. The permittee shall not commence the transit of hazardous materials over Laredo World Trade Bridge until it has been informed that the Government of the United States and the Government of Mexico have exchanged diplomatic notes confirming that both governments authorize the commencement of such transit of hazardous materials.

3. Aside from the amendment to Article 13(2) detailed above, the Presidential Permit signed on October 7, 1994, remains unaltered and in effect.

In witness whereof, I, Wendy R. Sherman, Under Secretary of State for Political Affairs, have hereunto set my hand this 22 day of May 2014 in the City of Washington District of Columbia.
Wendy R. Sherman,
Under Secretary for Political Affairs.
Kevin M. O'Reilly,
Director, Office of Mexican Affairs, Bureau of Western Hemisphere Affairs, U.S. Department of State.

[FR Doc. 2014-12585 Filed 5-29-14; 8:45 am]

BILLING CODE 4710-29-P